FEDERAL EMERGENCY MANAGEMENT AGENCY

Agency Information Collection Activities: Submission for OMB Review; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments on information collected and maintained on students attending National Fire Academy (NFA) and Emergency Management Institute (EMI) courses.

SUPPLEMENTARY INFORMATION: Public Law 93-498, Federal Fire Prevention and Control Act, as amended, established the National Fire Academy (NFA) to “advance the professional development of fire service personnel and of other persons engaged in fire prevention and control activities * * *” and authorizes the Superintendent, NFA , to “conduct courses and programs of training and education * * *” Public Law 100-707, Robert T. Stafford Disaster Relief and Emergency Assistance Act, authorizes the President to establish “a program of disaster preparedness that utilizes services of all appropriate agencies and includes * * * (2) training and exercises * * *” Under the authorities of Executive Order 12127 and 12148, the Director, Federal Emergency Management Agency, is responsible for carrying out the mandates of the public laws mentioned above. The director established the National Emergency Training Center (NETC), located in Emmitsburg, Maryland, which houses the NFA and the Emergency Management Institute (EMI). The data collection is used to: (1) Determine eligibility for courses and programs offered by NFA and EMI, (2) provide a consolidated record of all FEMA training taken by a student, (3) provide a transcript which can be used by the student in requesting college credit or continuing education units for courses completed, and (4) to determine eligibility for student stipends.

Collection of Information

Title: General Admissions Application and General Admissions Application Short Form.

Type of Information Collection: Extension.

OMB Number: 3067-0024.

Form Numbers: FEMA Form 75-5, General Admissions Application and FEMA Form 75-5a, General Admissions Application Short Form.

Abstract: NFA and EMI (located at the National Emergency Training Center (NETC) in Emmitsburg, Maryland) use FEMA Forms 75-5, General Admissions Application, and 75-5a, General Admissions Application Short Form, to admit applicants to resident courses and programs offered at NETC, Mount Weather Emergency Assistance Center (MWEAC) and various locations throughout the United States. Information from the application forms is maintained in the Admissions System. The system:

(1) Provides a consolidated record of all FEMA training taken by a student;

(2) Identifies or verifies participation in any prerequisite course;

(3) Produces a transcript which can be used by the student in requesting college credit or continuing education units for courses completed;

(4) Provides statistical information to members of Congress, members of the respective Boards of Visitors, sponsoring states or local officials; and (5) Determines which students receive stipends for attending NFA or EMI courses.

Affected Public: Individuals or households, Business or other for-profit, Not-for-profit institutions, Federal Government, and State, local or tribal government.

Estimated Total Annual Burden Hours:

FEMA forms | Number of respondents (A) | Frequency of response (B) | Hours per response (C) | Annual burden hours (A × B × C)
75-5 | 40,000 | 1 | 9 minutes | 6,000
75-5a | 25,000 | 1 | 6 minutes | 2,500
Total | 65,000 |  |  | 8,500

Estimated Cost: Costs include data entry contract at $125,000, 50% of the annual salary cost of three full-time personnel working in the NETC Admissions Office (GS6, GS7, and GS11) at approximately $70,000, printing at $500 per year. Total average estimated cost to Federal Government is $195,500 annually.

Comments

Written comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received on or before April 7, 2000.

ADDRESSES: Interested persons should submit written comments to Muriel B. Anderson, FEMA Information Collections Officer, Federal Emergency Management Agency, 500 C Street, SW, Room 316, Washington, DC 20472. Telephone number (202) 646-2625. FAX number (202) 646-3524 or e:mail muriel.anderson@fema.gov.

FOR FURTHER INFORMATION CONTACT: Contact Darlyn Vestal, Admissions Specialist, Educational and Technology Services Branch, U.S. Fire Administration, (301) 447-1415 for additional information. Contact Ms. Anderson at (202) 646-2625 for copies of the proposed collection of information.

Dated: January 24, 2000.
Mike Bozzelli,
Acting Director, Program Services Division, Operations Support Directorate.

[FR Doc. 00-2664 Filed 2-4-00; 8:45 am]

BILLING CODE 6718-01-P